ENVIRONMENTAL PROTECTION AGENCY

[OPPTS-51947; FRL-6592-7]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from April 24, 2000 to May 19, 2000, consists of the PMNs, both pending or expired, and the notices of commencement to manufacture a new chemical that the Agency has received under TSCA section 5 during this time period.

ADDRESSES: Comments may be submitted by mail, electronically, or in person. Please follow the detailed instructions for each method as provided in Unit I. of the SUPPLEMENTARY INFORMATION. To ensure proper receipt by EPA, it is imperative that you identify docket control number OPPTS-51947 and the specific PMN number in the subject line on the first page of your response.

FOR FURTHER INFORMATION CONTACT: Barbara Cunningham, Director, Office of Program Management, and Evaluation, Office of Pollution Prevention and Toxics (7401), Office of Pollution Prevention and Toxics, Environmental Protection Agency, Ariel Rios Bldg., 1200 Pennsylvania Ave., NW., Washington, DC 20460; telephone numbers: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Additional Information, Including Copies of this Document and Other Related Documents?

1. Electronically. You may obtain copies of this document and certain other available documents from the EPA Internet Home Page at http://www.epa.gov/. On the Home Page select “Laws and Regulations” and then look up the entry for this document under the “Federal Register—Environmental Documents.” You can also go directly to the “Federal Register” listings at http://www.epa.gov/fedrgstr/.

2. In person. The Agency has established an official record for this action under docket control number OPPTS-51947. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

C. How and to Whom Do I Submit Comments?

You may submit comments through the mail, in person, or electronically. To ensure proper receipt by EPA, it is imperative that you identify docket control number OPPTS-51947 and the specific PMN number in the subject line on the first page of your response.

1. By mail. Submit your comments to: Document Control Office (7407), Office of Pollution Prevention and Toxics (OPPT), Environmental Protection Agency, Ariel Rios Bldg., 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. You may submit your comments electronically by e-mail to: “oppt.ncic@epa.gov,” or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-51947 and the specific PMN number. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket control number assigned to this action in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from April 24, 2000 to May 19, 2000, consists of the PMNs, both pending or expired, and the notices of commencement to manufacture a new chemical that the Agency has received under TSCA section 5 during this time period.

III. Receipt and Status Report for PMNs

This status report identifies the PMNs, pending or expired, and the notices of commencement to manufacture a new chemical that the Agency has received under TSCA section 5 during this time period. If you are interested in information that is not included in the following tables, you may contact EPA as described in Unit II. to access additional non-CBI information that may be available.

In table I, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 93 Premanufacture Notices Received From: 04/24/00 to 05/19/00
Case No. | Received Date | Projected Notice End Date | Manufacturer/Importer | Use | Chemical
P-00-0743 | 04/24/00 | 07/23/00 | CBI | (G) Component of coating with open use | (G) Urethane acrylate
P-00-0744 | 04/24/00 | 07/23/00 | CBI | (G) Component of coating with open use | (G) Urethane acrylate
P-00-0745 | 04/24/00 | 07/23/00 | CBI | (G) Component of coating with open use | (G) Urethane acrylate
P-00-0746 | 04/24/00 | 07/23/00 | CBI | (G) Component of coating with open use | (G) Urethane acrylate
P-00-0747 | 04/24/00 | 07/23/00 | CBI | (G) Component of coating with open use | (G) Urethane acrylate
P-00-0748 | 04/24/00 | 07/23/00 | CBI | (G) Component of coating with open use | (G) Urethane acrylate
P-00-0749 | 04/24/00 | 07/23/00 | CBI | (G) Rheomate, the commercial formulation based on zirconyl citrate, is an additive for water based drilling fluids to be used as a thinner/deflocculant, alone or in combinatio with other additives for low and high temperature applications on- shore and off-shore | (G) Polycarboxylic acid, zirconium salt
P-00-0750 | 04/27/00 | 07/26/00 | U.S. Polymers Inc. | (S) Let down vehicle ink application; component in overprint varnishes | (G) Reaction product of: 1,2 ethane diamine, aliphatic diisocyanate and polyether polyols
P-00-0751 | 04/24/00 | 07/23/00 | CBI | (G) Lubricant | (G) Alkanedioic acid, diester with branched alcohols
P-00-0752 | 04/25/00 | 07/24/00 | CBI | (G) Emulsifier | (G) Polyoxyethylene alkyl ether sulfosuccinate metal salts
P-00-0753 | 04/27/00 | 07/26/00 | Englehard Corporation | (S) A colorant for plastics | (G) Azo maroon pigment
P-00-0754 | 04/27/00 | 07/26/00 | CBI | (G) Non-dispersive use. | (G) Blocked aromatic isocyanate
P-00-0755 | 04/24/00 | 07/23/00 | CBI | (S) Laminating adhesive | (G) Isocyanate-terminated polyester polyurethane polymer
P-00-0756 | 04/24/00 | 07/23/00 | CBI | (S) Laminating adhesive | (G) Isocyanate-terminated polyester polyurethane polymer
P-00-0757 | 04/24/00 | 07/23/00 | CBI | (S) Laminating adhesive | (G) Isocyanate-terminated polyester polyurethane polymer
P-00-0758 | 04/24/00 | 07/23/00 | CBI | (S) Laminating adhesive | (G) Isocyanate-terminated polyester polyurethane polymer
P-00-0759 | 04/24/00 | 07/23/00 | CBI | (S) Laminating adhesive | (G) Isocyanate-terminated polyester polyurethane polymer
P-00-0760 | 04/24/00 | 07/23/00 | CBI | (S) Laminating adhesive | (G) Isocyanate-terminated polyester polyurethane polymer
P-00-0761 | 04/28/00 | 07/27/00 | Condea Vista Company | (S) Surfactant/emulsifier for liquid laundry detergents and general purpose cleaners, (both pmn substances a&b) | (S) 2-propanol, 1-amino-, compds. with polyethylene glycol hydrogen sulfate C12-16-alkyl ethers*
P-00-0762 | 04/28/00 | 07/27/00 | Condea Vista Company | (S) Surfactant/emulsifier for liquid laundry detergents and general purpose cleaners, (both pmn substances a&b) | (S) 2-propanol, 1,11/4,11/41/4-nitrilotris-, compds. with polyethylene glycol hydrogen sulfate C12-16-alkyl ethers*
P-00-0763 | 04/28/00 | 07/27/00 | CBI | (G) Additive for inks and coatings | (G) Polyester modified polydimethylsiloxane
P-00-0764 | 04/28/00 | 07/27/00 | 3M | (G) Binder resin | (G) Polyester resin
P-00-0765 | 05/01/00 | 07/30/00 | CBI | (S) Chemical intermediate | (G) Alkylaryl polyether
P-00-0766 | 05/01/00 | 07/30/00 | CBI | (G) An open non-dispersive use | (G) Rosin modified phenolic resin
P-00-0767 | 05/01/00 | 07/30/00 | CBI | (S) Resin for automotive coatings | (G) Modified carbamate acrylic polymer
P-00-0768 | 05/01/00 | 07/30/00 | CBI | (S) Resin for automotive coatings | (G) Modified carbamate acrylic polymer
P-00-0769 | 05/01/00 | 07/30/00 | CBI | (S) Resin for automotive coatings | (G) Modified carbamate acrylic polymer
P-00-0770 | 05/01/00 | 07/30/00 | CBI | (S) Resin for automotive coatings | (G) Modified carbamate acrylic polymer
P-00-0771 | 05/01/00 | 07/30/00 | CBI | (S) Resin for automotive coatings | (G) Modified carbamate acrylic polymer
P-00-0772 | 05/01/00 | 07/30/00 | CBI | (S) Resin for automotive coatings | (G) Modified carbamate acrylic polymer
P-00-0773 | 05/02/00 | 07/31/00 | Eastman Kodak Company | (G) Chemical intermediate, destructive use | (S) 1-dodecanesulfonyl chloride*
P-00-0774 | 05/02/00 | 07/31/00 | BP Amoco Chemical Company | (G) Chemical intermediate | (G) Mixed butene oligomers
P-00-0775 | 05/02/00 | 07/31/00 | BP Amoco Chemical Company | (G) Chemical intermediate | (G) Mixed butene oligomers
P-00-0776 | 05/02/00 | 07/31/00 | BP Amoco Chemical Company | (G) Chemical intermediate | (G) Mixed butene oligomers
P-00-0777 | 05/02/00 | 07/31/00 | BP Amoco Chemical Company | (G) Chemical intermediate | (G) Mixed butene oligomers
P-00-0778 | 05/02/00 | 07/31/00 | BP Amoco Chemical Company | (G) Chemical intermediate | (G) Mixed butene oligomers
P-00-0779 | 05/02/00 | 07/31/00 | BP Amoco Chemical Company | (G) Synthetic lubricant | (G) Mixed butene oligomers, hydrogenated
P-00-0780 | 05/02/00 | 07/31/00 | BP Amoco Chemical Company | (G) Synthetic lubricant | (G) Mixed butene oligomers, hydrogenated
P-00-0781 | 05/02/00 | 07/31/00 | BP Amoco Chemical Company | (G) Synthetic lubricant | (G) Mixed butene oligomers, hydrogenated
P-00-0782 | 05/02/00 | 07/31/00 | CBI | (S) Aqueous dispersion of polyurethane for leather fininshing | (G) Fatty acid polymer with alkyl diols, isocyanic acid, ester, alkoxylated polyether diolsulfonate, 2-oxepanone and alkyl diamine
P-00-0783 | 05/03/00 | 08/01/00 | Westvaco Corporation—Chemical Division | (S) Dye dispersant for dye formualtions | (G) Sodium derivatives of modified alkali lignin reaction products with formaldehyde
P-00-0784 | 05/03/00 | 08/01/00 | Gelest, Inc. | (S) Intermediate for conversion to final product; research purposes | (S) Silane, trichloro[ (ethylphenyl)ethyl]-*
P-00-0785 | 05/03/00 | 08/01/00 | Gelest, Inc. | (S) Component in resin formulation for coating glass; r&d purposes | (G) Silane ester
P-00-0786 | 05/04/00 | 08/02/00 | CBI | (G) Thermoplastic elastomer for industrial use | (G) Crosslinked polyolefin elastomer
P-00-0787 | 05/04/00 | 08/02/00 | Alco Chem, Inc. | (G) Component of low viscosity industrial lubricant | (S) Alkanes, C10-24-branched*
P-00-0788 | 05/04/00 | 08/02/00 | Alco Chem, Inc. | (G) Solvent component | (S) Alkanes, C10-24*
P-00-0789 | 05/04/00 | 08/02/00 | Cyclics Corp. | (S) Curable thermoplastic resin | (S) 1,4-benzedicarboxylic acid, dimethy ester, polymer with 1,4-butanediol, cyclized*
P-00-0790 | 05/05/00 | 08/03/00 | Huntsman Petrochemical Corporation | (G) Chemical intermediate | (G) Poly(oxyalkylene) carbonate
P-00-0791 | 05/05/00 | 08/03/00 | CBI | (S) Acrylic resin used to make waterbased coatings for plastics surfaces; acrylic resin used to make various waterbased coatings | (G) Copolymer of styrene and methacrylic esters
P-00-0792 | 05/05/00 | 08/03/00 | CBI | (S) Surfactant for polyurethane foam | (G) Silicone copolymer
P-00-0793 | 05/05/00 | 08/03/00 | CBI | (G) Acrylic pressure sensitive adhesive | (G) Acrylic solution polymer
P-00-0794 | 05/08/00 | 08/06/00 | CBI | (G) Component of catalyst | (G) Chloroformate
P-00-0795 | 05/08/00 | 08/06/00 | CBI | (G) Adhesive | (G) Waterbourne polyurethane
P-00-0796 | 05/09/00 | 08/07/00 | FMC Corporation | (S) Chemical intermediate | (G) Substituted cyclopropane ester
P-00-0797 | 05/09/00 | 08/07/00 | FMC Corporation | (S) Chemical intermediate | (G) Substituted cyclopropane ester
P-00-0798 | 05/09/00 | 08/07/00 | FMC Corporation | (S) Chemical intermediate | (G) Substituted aliphatic carboxylic acid chloride
P-00-0799 | 05/09/00 | 08/07/00 | FMC Corporation | (S) Chemical intermediate | (G) Substituted aliphatic carboxylic acid chloride
P-00-0800 | 05/09/00 | 08/07/00 | CBI | (G) Cross-linking agent for thermosetting resin | (G) Amine adduct of epoxy resin
P-00-0801 | 05/11/00 | 08/09/00 | Arizona Chemical Company | (S) Adhesive tackifier | (S) Rosin, fumarated, C9-11-isoalkyl esters, C10-rich, compds. with 2-(dimethylamino)ethanol*
P-00-0802 | 05/11/00 | 08/09/00 | Arizona Chemical Company | (S) Adhesive tackifier | (S) Rosin, polymd., compd. with 2-(dimethylamino) ethanol*
P-00-0803 | 05/11/00 | 08/09/00 | CIBA Specialty Chem. Corp., Colors Division | (G) Textile dye | (G) 2,7-naphthalenedisulfonic acid, 5-[[4-chloro-6-[substituted] amino]- 1,3,5-triazin-2-yl] amino]-4-hydroxy-3-[(1-sulfo-2-naphthalenyl)azo]-, trisodium salt
P-00-0804 | 05/11/00 | 08/09/00 | Union carbide corporation | (G) Chemical intermediate | (G) Aliphatic dialdehyde
P-00-0805 | 05/11/00 | 08/09/00 | Union Carbide Corporation | (G) Chemical intermediate | (G) Aliphatic dialdehyde
P-00-0806 | 05/11/00 | 08/09/00 | CIBA Specialty Chem. Corp., Colors Division | (G) Textile dye | (G) 1,3,6-naphthalenetrisulfonic acid, 7-[[2-[(substituted)amino]-4-[[4-[[2-[2-[substituted]ethyl]amino]-6-fluoro-1,3,5-triazin-2- yl]amino]phenyl]azo]-, trisodium salt
P-00-0807 | 05/11/00 | 08/09/00 | Eastman Kodak Company | (G) Contained use in an article | (G) Substituted cycloalkyl heterocyclic derivative
P-00-0808 | 05/11/00 | 08/09/00 | Ashland Inc. | (G) Adhesive | (G) Modified copolymer of acrylic esters and styrene
P-00-0809 | 05/11/00 | 08/09/00 | Eastman Kodak Company | (G) Chemical intermediate, destructive use | (G) Heterocyclic alkyl acid derivative
P-00-0810 | 05/11/00 | 08/09/00 | Eastman Kodak Company | (G) Chemical intermediate, destructive use | (G) Heterocyclic alkyl alcohol
P-00-0811 | 05/11/00 | 08/09/00 | CBI | (S) Heat resistant filler | (G) Inorganic layer polymer
P-00-0812 | 05/12/00 | 08/10/00 | CBI | (S) Adhesive for assembling furniture | (G) Aliphatic polyamide polymer
P-00-0813 | 05/12/00 | 08/10/00 | CBI | (S) Adhesive for filter pleating | (G) Aliphatic polyamide polymer
P-00-0814 | 05/12/00 | 08/10/00 | CBI | (G) Moisture curing polyurethane adhesive | (G) Isocyanate terminated urethane pre-polymer
P-00-0815 | 05/12/00 | 08/10/00 | CBI | (S) Paint or coating component | (G) Fluoroethylene-vinylether copolymer
P-00-0816 | 05/12/00 | 08/10/00 | E.I. Dupont Denemours & Co. | (G) Open, non-dispersive use | (G) Alkyl aminosulfonylcarboxylate
P-00-0817 | 05/12/00 | 08/10/00 | CBI | (G) Open, non-dispersive use | (G) Silicon resin
P-00-0818 | 05/12/00 | 08/10/00 | Condea Servo LLC | (S) Thickener for solvent-based industrial coating systems | (G) Fatty acids, unsatd., dimers, polymers with a,w-diisocyanate and w-hydroxyalkyl-imidazolidinone
P-00-0819 | 05/12/00 | 08/10/00 | Degussa-Huls Corporation | (G) Chemical intermediate | (S) 1,1-cyclopropanedicarboxylic acid, dimethyl ester*
P-00-0820 | 05/15/00 | 08/13/00 | Cytec Industries Inc. | (S) Automotive coating; wood coatings;industrial coatings;transportation coatings | (S) 2-propenoic acid, 2-methyl-, methyl ester, polymer with butyl 2-propenoate, 4-hydroxybutyl 2-propenoate and 2-propenoic acid, compd. with N,N-diethylethanamine*
P-00-0821 | 05/15/00 | 08/13/00 | Cytec Industries Inc. | (S) Automotive coating; wood coatings;industrial coatings;transportation coatings | (S) 2-propenoic acid, 2-methyl-, methyl ester, polymer with butyl 2-propenoate, ethenylbenzene, 2-hydroxyethyl 2-propenoate and 2-propenoic acid, compd. with N,N-diethylethanamine*
P-00-0822 | 05/15/00 | 08/13/00 | Cytec Industries Inc. | (S) Automotive coating; wood coatings;industrial coatings;transportation coatings | (S) 2-propenoic acid, 2-methyl-, methyl ester, polymer with butyl 2-propenoate, ethenylbenzene, 4-hydroxybutyl 2-propenoate and 2-propenoic acid, compd. with N,N-diethylethanamine*
P-00-0823 | 05/15/00 | 08/13/00 | CBI | (G) Coating additive for open, non-dispersive use | (G) Magnesium salt of phosphate ester.
P-00-0824 | 05/15/00 | 08/13/00 | CBI | (G) Agent for copier | (G) Substituted methylenebisnaphthalene
P-00-0825 | 05/16/00 | 08/14/00 | CBI | (G) Open, non-dispersive use (dyestuff) | (G) Azo dyestuff
P-00-0826 | 05/16/00 | 08/14/00 | CBI | (S) For use as plasticizer in acrylic polymer dispersions for use with cementitious materials | (G) Polyacrylate, partially neutralized
P-00-0827 | 05/16/00 | 08/14/00 | CBI | (G) Solvent | (G) Substituted alcohol
P-00-0828 | 05/16/00 | 08/14/00 | Crompton Corporation (formerly CK Witco Corporation) | (G) Polymer Additive | (S) 2,4(1h,3h)-pyrimidinedione, 6-amino-1,3-dimethyl-*
P-00-0829 | 05/17/00 | 08/15/00 | Cytec Industries Inc. | (G) Uv light stabilizer in plastics | (G) Hindered amine light stabilizer
P-00-0830 | 05/18/00 | 08/16/00 | CBI | (S) Additive, open non-dispersive | (G) Polyether modified polydimethylsiloxane
P-00-0831 | 05/18/00 | 08/16/00 | CBI | (S) Additive, open non-dispersive | (G) Polyer ether modified dimethylpolysiloxane
P-00-0832 | 05/18/00 | 08/16/00 | CBI | (S) Additive, open non-dispersive | (G) Polyether modified polydimethylsiloxane
P-00-0833 | 05/18/00 | 08/16/00 | CBI | (G) Additive, open, non-dispersive use | (G) Polyether modified polysiloxane, acrylated
P-00-0834 | 05/18/00 | 08/16/00 | CBI | (S) Laminating Adhesive | (G) Polyester polyurethane methacrylic graft copolymer
P-00-0835 | 05/19/00 | 08/17/00 | CBI | (G) Polymer Additive | (G) Substituted picolinate

II. 67 Notices of Commencement From: 04/24/00 to 05/19/00
Case No. | Received Date | Commencement/Import Date | Chemical
P-00-0016 | 05/19/00 | 05/14/00 | (G) Aqueous dispersion of a polyester polyurethane
P-00-0026 | 05/01/00 | 04/18/00 | (G) Polyisocyanate prepolymer
P-00-0036 | 05/05/00 | 04/11/00 | (G) Monoazo napthanilide pigment, aminomethoxybenzoyltrifluroromethylanalide
P-00-0095 | 05/11/00 | 05/08/00 | (G) Formaldehyde, polymer with an aliphatic polyamine
P-00-0096 | 05/10/00 | 04/24/00 | (G) Vinyl tripolymer
P-00-0100 | 05/08/00 | 04/28/00 | (G) Substituted polydimethylsiloxane
P-00-0183 | 05/15/00 | 04/26/00 | (G) Substituted phenylenediamide reaction products with substituted phenylenediamine, and sulfur, leuco derivs
P-00-0268 | 04/26/00 | 04/10/00 | (G) Acetyl heterocyclic compound
P-00-0293 | 05/11/00 | 05/08/00 | (G) Organophosphinothioyl ester
P-00-0316 | 05/03/00 | 04/19/00 | (G) Propanoic acid, 3-(alkylthio)-, thiobis (alkylphenylene ester
P-00-0319 | 05/10/00 | 04/03/00 | (G) Benzenedicarboxylic acid, alkyl alkylaminocarbonyloxyethyl ester
P-00-0336 | 05/15/00 | 05/01/00 | (G) Liquid anionic polymer
P-00-0337 | 05/15/00 | 05/01/00 | (G) Liquid anionic polymer
P-00-0348 | 05/10/00 | 04/03/00 | (G) N,N¼-bis (octadecanoyl) hexylenediamine, or hexamethylenebisstearamide*
P-00-0356 | 05/02/00 | 04/07/00 | (G) Alkarylsulfonic acid.
P-00-0357 | 05/04/00 | 04/21/00 | (G) Polyether—type polyurethane
P-00-0376 | 05/04/00 | 04/18/00 | (S) 1,5-naphthalenedisulfonic acid, 2 (or 3)-[[8-amino-7-[[5-[[4-[4-[2-[[4-[[3-[[1-amino-7-[[1,5 (or 4,8) -disulfo-2-naphthalenyl]azo]-8-hydroxy-3,6-disulfo-2-naphthalenyl]azo] -4-sulfophenyl]amino]-6-chloro-1,3,5-triazin-2-yl]amino]ethyl]-1-piperazinyl] -6-chloro-1,3,5-triazin-2-yl]amino]-2-sulfophenyl]azo]-1-hydroxy-3, 6-disulfo-2-naphthalenyl]azo]-, sodium salt*
P-00-0408 | 05/16/00 | 04/13/00 | (G) Calcium fatty acid complex.
P-00-0409 | 05/16/00 | 04/12/00 | (G) Calcium fatty acid complex
P-00-0414 | 05/16/00 | 04/18/00 | (G) Calcium fatty acid complex
P-00-0416 | 05/16/00 | 04/20/00 | (G) Calcium fatty acid complex
P-00-0422 | 05/05/00 | 04/26/00 | (G) Non-volatile emulsion acrylic polymer
P-00-0429 | 04/26/00 | 04/19/00 | (G) Fluoroelastomer
P-00-0440 | 05/18/00 | 05/03/00 | (G) Polyester resin
P-00-0465 | 05/18/00 | 05/02/00 | (G) Isocyanate terminated urethane polymer
P-96-1460 | 05/04/00 | 04/11/00 | (S) 3-amino-4-chlorobenzoic acid*
P-97-0447 | 04/24/00 | 03/29/00 | (G) Hydroxy functional methacrylic copolymer
P-97-0520 | 05/01/00 | 04/07/00 | (S) 1,3-dimethyl-2-piperidinone*
P-97-0521 | 05/01/00 | 04/07/00 | (S) 1,5-dimethyl-2-piperidinone
P-98-0047 | 04/26/00 | 03/31/00 | (G) Polyester resin
P-98-0069 | 05/16/00 | 09/14/99 | (S) 1-octadecanol, manuf. of distn. lights*
P-98-0261 | 05/19/00 | 04/21/00 | (S) Cyclohexane, 1-(1,1-dimethylpropyl)-4-ethoxy-,cis-; cyclohexane, 1-(1,1-dimethylpropyl)-4-ethoxy-, trans-*
P-98-0630 | 04/25/00 | 04/06/00 | (G) Grace isopropanolamine salt solution
P-98-0903 | 05/04/00 | 04/11/00 | (G) Acidic polyester polyamide
P-98-0905 | 05/04/00 | 04/11/00 | (G) Alkenyl half-ester of alkylpolyethoxylate
P-98-1076 | 05/15/00 | 05/05/00 | (G) Polycyclic alkanol
P-98-1085 | 05/05/00 | 04/11/00 | (G) Diketo—pyrrolopyrrol
P-99-0165 | 04/28/00 | 12/20/99 | (G) Acrylate functional polyester
P-99-0169 | 04/28/00 | 12/20/99 | (G) Acrylate functional polyester emulsion
P-99-0177 | 04/28/00 | 12/20/99 | (G) Acrylate functional polyester
P-99-0189 | 04/24/00 | 04/11/00 | (G) Styrenated acrylic compolyer
P-99-0534 | 04/24/00 | 04/07/00 | (G) Mixed thio acid amide molybdenum complexes
P-99-0595 | 04/25/00 | 03/13/00 | (S) 3-cyclohexene-1-carboxylic acid, 1-methyl-1-(4-methyl-3-cyclohenen-1-yl) ethyl ester*
P-99-0596 | 04/25/00 | 03/13/00 | (S) 3-cyclohexene-1-carbonyl chloride*
P-99-0597 | 04/25/00 | 03/06/00 | (S) 3-cyclohexene-1-carboxylic acid*
P-99-0598 | 04/24/00 | 03/21/00 | (S) 7-oxabicyclo[4.1.0]heptane-3-carboxylic acid, 1-methyl-1-(6-methyl-7-oxabicyclo [4.1.0]hept-3-yl) ethyl ester*
P-99-0845 | 04/28/00 | 04/07/00 | (G) Aluminate, bis[[(substituted)azo] ­[hydroxyphenylbenzenesulfo ­namidato] hydrogen compound with tetramethylpiperidinamine
P-99-0918 | 05/08/00 | 04/22/00 | (G) Halogenated polystyrene copolymer
P-99-0923 | 05/15/00 | 04/20/00 | (G) Tall oil modified acrylic polymer with rosin and tall oil fatty acid, ammonium salt
P-99-0930 | 05/15/00 | 04/17/00 | (G) Tall oil modified acrylic polymer with rosin and tall oil fatty acid
P-99-0983 | 05/04/00 | 04/11/00 | (G) Alkylol ammonium salt of a high-molecular weight carboxylic acid
P-99-0992 | 05/04/00 | 04/11/00 | (G) Modified polysiloxane
P-99-1014 | 05/16/00 | 04/25/00 | (G) Cycloaliphatic olefin distillate stream polymerized with substituted alkyl phenol
P-99-1080 | 05/01/00 | 04/13/00 | (G) Naphthaquinone diazide sulfonyl ester mixture of a polynuclear polyhydroxy phenol
P-99-1245 | 05/01/00 | 04/16/00 | (S) Carbonic dichloride, polymer with 4,41/4-(9h-fluoren-9-ylidene) bis[2,6-dibromophenol]*
P-99-1345 | 04/26/00 | 04/20/00 | (S) Propanoyl fluoride, 2,3,3,3-tetrafluoro-2-[1,1,2,2,3,3-hexafluoro-3-(trifluoromethoxy) propoxy]-*
P-99-1351 | 05/04/00 | 03/30/00 | (G) Polycarboxylate
P-99-1352 | 05/04/00 | 03/31/00 | (G) Polycarboxylate
P-99-1363 | 05/04/00 | 04/11/00 | (G) Aminopolyamide
P-99-1364 | 05/02/00 | 04/12/00 | (G) Aminopolyamide
P-99-1372 | 05/01/00 | 04/21/00 | (S) 2-naphthalenamine, N-(2-ethylhexyl)-1-((3-methyl-4-((3-methylphenyl)azo)phenyl)azo)-*
P-99-1376 | 05/09/00 | 05/02/00 | (G) Polydimethylsiloxane resin
P-99-1377 | 05/18/00 | 05/10/00 | (G) Polydimethylsiloxane resin
P-99-1385 | 05/17/00 | 04/15/00 | (G) Substituted bis cyclopentadienyl metallocene
P-99-1394 | 05/15/00 | 05/02/00 | (G) Polyester polyether isocyanate polymer
P-99-1395 | 05/17/00 | 05/02/00 | (G) Polyester polyether isocyanate polymer
P-99-1402 | 05/05/00 | 05/02/00 | (G) Acrylic acid ester copolymer with vinylimidazole, grafted with styrene-acrylnitril copolymer

List of Subjects

Environmental protection, Chemicals, Premanufacturer notices.

Dated: July 3, 2000.
Deborah A. Williams,
Acting Director, Information Management Division, Office of Pollution Prevention and Toxics.

[FR Doc. 00-18101 Filed 7-17-00; 8:45 am]

BILLING CODE 6560-50-F